INTERNATIONAL TRADE COMMISSION

[Investigation Nos. 701-TA-481 and 731-TA-1190 (Review)]

Crystalline Silicon Photovoltaic Cells and Modules From China

Determinations

On the basis of the record ¹ developed in the subject five-year reviews, the United States International Trade Commission (“Commission”) determines, pursuant to the Tariff Act of 1930 (“the Act”), that revocation of the antidumping and countervailing duty orders on Crystalline Silicon Photovoltaic Cells and Modules from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on November 1, 2017 (82 FR 50681) and determined on February 5, 2018 that it would conduct full reviews (83 FR 8296, February 26, 2018). Notice of the scheduling of the Commission's reviews and of a public hearing to be held in connection therewith was given by posting copies of the notice in the Office of the Secretary, U.S. International Trade Commission, Washington, DC, and by publishing the notice in the Federal Register on July 23, 2018 (83 FR 34873)(as revised, effective October 22, 2018 (83 FR 54138, October 26, 2018) and January 31, 2019 (84 FR 2249, February 6, 2019).² The hearing was held in Washington, DC, on November 27, 2018, and all persons who requested the opportunity were permitted to appear in person or by counsel.

² Due to the lapse in appropriations and ensuing cessation of Commission operations, all import injury reviews conducted under authority of Title VII of the Tariff Act of 1930 accordingly have been tolled pursuant to 19 U.S.C. 1675(c)(5).

The Commission made these determinations pursuant to section 751(c) of the Act (19 U.S.C. 1675(c)). It completed and filed its determinations in these reviews on March 1, 2019. The views of the Commission are contained in USITC Publication 4874 (March 2019), entitled Crystalline Silicon Photovoltaic Cells and Modules from China: Investigation Nos. 701-TA-481 and 731-TA-1190 (Review).

By order of the Commission.
Issued: March 1, 2019.
Katherine Hiner,
Acting Secretary to the Commission.

[FR Doc. 2019-04094 Filed 3-6-19; 8:45 am]

BILLING CODE 7020-02-P